DEPARTMENT OF COMMERCE

National Oceanic and Atmospheric Administration

50 CFR Part 648

[Docket No. 120813331-2562-01]

RIN 0648-XC164

Magnuson-Stevens Act Provisions; Fisheries of the Northeastern United States; Northeast Multispecies Fishery; Proposed Rule To Implement a Targeted Acadian Redfish Fishery for Sector Vessels; Reopening of Comment Period

AGENCY: National Marine Fisheries Service (NMFS), National Oceanic and Atmospheric Administration (NOAA), Commerce.

ACTION: Proposed rule; correction and reopening of comment period.

SUMMARY: This action reopens the comment period for an Acadian redfish-related proposed rule that published on November 8, 2012. The original comment period closed on November 23, 2012. This action clarifies a bycatch threshold incorrectly explained in the proposed rule. The public comment period is being reopened to solicit additional public comment on this correction.

DATES: The comment period for the proposed rule published November 8, 2012 (77 FR 66947), is reopened. Written comments must be received on or before January 22, 2013.

ADDRESSES: You may submit comments on this document, identified by NOAA-NMFS-2012-0183, by any one of the following methods:

• Electronic Submissions: Submit all electronic public comments via the Federal e-Rulemaking Portal. Go to www.regulations.gov/#!docketDetail;D=NOAA-NMFS-2012-0183, click the “Comment Now!” icon, complete the required fields, and enter or attach your comments.

• Fax: (978) 281-9135, Attn: William Whitmore.

• Mail: Paper, disk, or CD-ROM comments should be sent to John K. Bullard, Regional Administrator, National Marine Fisheries Service, 55 Great Republic Drive, Gloucester, MA 01930. Mark the outside of the envelope: “Comments on Redfish Rule.”

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: William Whitmore, Fisheries Policy Analyst, phone (978) 281-9182, fax (978) 281-9135.

SUPPLEMENTARY INFORMATION: A proposed rule published on November 8, 2012 (77 FR 66947) that would implement addenda to fishing year (FY) 2012 Northeast (NE) multispecies sector operations plans and contracts to add additional exemptions from Federal fishing regulations for FY 2012 sectors. Specifically, the action would expand on a previously approved sector exemption by allowing groundfish sector trawl vessels to target redfish using nets with codend mesh as small as 4.5 inches (11.4 cm). In addition, the action proposed to implement an industry-funded at-sea monitoring program for sector trips targeting redfish with trawl nets with mesh sizes that are less than the regulated mesh size requirement.

The proposed rule published in the Federal Register with a 15-day comment period that closed on November 23, 2012. At the request of the New England Fishery Management Council (Council) and industry, we extended the comment period through December 31, 2012.

After further review of the proposed rule, it was found that one of the threshold measures was incorrectly explained. The proposed rule included a bycatch threshold to help mitigate catches of sub-legal sized groundfish. The rule proposed that “total groundfish discards (excluding redfish discards), may not exceed 5 percent of all groundfish caught when directing on redfish with small mesh nets.” This is incorrect. The bycatch threshold would account for total regulated groundfish discards, including redfish discards. This is how the threshold was explained and analyzed in the supplemental environmental assessment. Further, a December 19, 2012, presentation on the exemption to the Council's Groundfish Committee also explained the threshold as including redfish discards. To clarify, the incorrect language would be replaced with “Additionally, to help mitigate catches of sub-legal sized groundfish, total groundfish discards (including redfish discards), may not exceed 5 percent of all groundfish caught when directing on redfish with small-mesh nets.”

Because the language in the proposed rule is exactly opposite of what was intended, we are reopening the public comment period for 15 days to allow for additional public comment specifically on the correction to the proposed rule.

Dated: January 4, 2013.
Alan D. Risenhoover,
Director, Office of Sustainable Fisheries, performing the functions and duties of the Deputy Assistant Administrator for Regulatory Programs, National Marine Fisheries Service.

[FR Doc. 2013-00345 Filed 1-7-13; 4:15 pm]

BILLING CODE 3510-22-P